DEPARTMENT OF LABOR

Employment and Training Administration

[TA-W-52,462]

Fishing Vessel (F/V) Robert Booney, Cordova, Alaska; Dismissal of Application for Reconsideration

Pursuant to 29 CFR 90.18(c) an application for administrative reconsideration was filed with the Director of the Division of Trade Adjustment Assistance for workers at Fishing Vessel (F/V) Robert Booney, Cordova, Alaska. The application contained no new substantial information which would bear importantly on the Department's determination. Therefore, dismissal of the application was issued.

TA-W-52,462; Fishing Vessel (F/V) Robert Booney, Cordova, Alaska (October 14, 2003)

Signed at Washington, DC, this 5th day of November, 2003.
Timothy Sullivan,
Director, Division of Trade Adjustment Assistance.

[FR Doc. 03-29127 Filed 11-20-03; 8:45 am]

BILLING CODE 4570-30-M